CORPORATION FOR NATIONAL AND COMMUNITY SERVICE

Availability of Funds for Grants to Support the Martin Luther King, Jr. Service Day Initiative

AGENCY: Corporation for National and Community Service.

ACTION: Notice of availability of funds.

SUMMARY: The Corporation for National and Community Service (the Corporation), in consultation with the Martin Luther King, Jr. Center for Nonviolent Social Change, Inc. in Atlanta, invites applications for grants to pay for the federal share of the cost of planning and carrying out service opportunities in conjunction with the federal legal holiday honoring the birthday of Martin Luther King, Jr. on January 15, 2001.

The purpose of the grants is to mobilize more Americans to observe the Martin Luther King, Jr. federal holiday as a day of service in communities and to bring people together around the common focus of service to others. To achieve this, we will make approximately $500,000 in grant funds available to support approved service opportunities. Eligible organizations may apply for a grant in one of the following two categories. The first category, in amounts of up to $3,500, will support national service and community volunteering projects of a relatively small scale and limited geographical scope. The second category, in amounts of up to $10,000, will support large-scale (e.g., state-wide, city-wide, county-wide, or regional) service projects. By large-scale, we mean that the service involves a large number of participants in a geographic area. We expect to award a greater number of small-scale grants.

DATES: The deadline for submission of applications is September 15, 2000, no later than 5 p.m. local time.

ADDRESSES: Obtain applications from and return them to the Corporation state office in your state unless otherwise noted. See Supplementary Information section for Corporation state office addresses. Address the application to: Martin Luther King, Jr. Day of Service, Corporation for National Service (Appropriate State Address).

FOR FURTHER INFORMATION CONTACT: For further information, contact the person listed for the Corporation office in your state, unless otherwise noted. You may request this notice in an alternative format for the visually impaired by calling (202) 606-5000, ext. 262. The Corporation's T.D.D. number is (202) 565-2799 and is operational between the hours of 9 a.m. and 5 p.m. Eastern Daylight Time.

SUPPLEMENTARY INFORMATION:

Background

The Corporation is a federal government corporation, established by Congress in the 1993 amendments to the National and Community Service Act of 1990 (the Act) that engages Americans of all ages and backgrounds in service to communities. This service addresses the nation's education, public safety, environmental, or other human needs to achieve direct and demonstrable results with special consideration to service that affects the needs of children. In doing so, the Corporation fosters civic responsibility, strengthens the ties that bind us together as a people, and provides educational opportunity for those who make a substantial commitment to service. The Corporation supports a range of national service programs including AmeriCorps, Learn and Serve America, and the National Senior Service Corps. In providing grants to support service in connection with the Martin Luther King, Jr. federal holiday, the Corporation acts in consultation with the Martin Luther King, Jr. Center for Nonviolent Social Change, Inc. For more information about the Corporation and the programs it supports, go to http://www.nationalservice.org. For more information about the King Center, go to http://www.thekingcenter.com.

Section 12653(s) of the Act, as amended in 1994, authorizes the Corporation to make grants to share the cost of planning and carrying out service opportunities in conjunction with the federal legal holiday honoring the birthday of Martin Luther King, Jr. We will fund grants to support activities that will (1) get necessary things done in communities, (2) strengthen the communities engaged in the service activity, (3) reflect the life and teaching of Martin Luther King, Jr., (4) respond to one or more of the goals set forth at the Presidents' Summit for America's Future and include young people as service providers, not just recipients of service, and (5) begin or occur in significant part on the federal legal holiday (January 15, 2001).

Getting things done means that projects funded under the Martin Luther King Jr. holiday grant will help communities meet education, public safety, environmental, or other human needs through direct service and effective citizen action. Accordingly, we expect well designed activities that meet compelling community needs and lead to measurable outcomes and impact.

Strengthening communities means bringing people together in pursuit of a common objective that is of value to the community. On Martin Luther King, Jr. Day in 1998, President Clinton said “* * * to achieve one America, we must go beyond words to deeds. Serving together on the King holiday—and everyday—will bring our nation closer together and help meet some of our toughest challenges.” Projects should seek to engage a wide range of local partners in the communities served. You should design, implement, and evaluate projects with partners, including local and state King Holiday Commissions, national service programs (AmeriCorps, Learn and Serve America, and the National Senior Service Corps), state and local organizations affiliated with the campaign for children and youth launched at the Presidents' Summit for America's Future and carried forward by America's Promise—the Alliance for Youth, community-based agencies, schools and school districts, Volunteer Centers of the Points of Light Foundation and other volunteer organizations, local United Ways, communities of faith, businesses, foundations, state and local governments, labor organizations, and colleges and universities.

Reflecting the life and teaching of Martin Luther King, Jr. means demonstrating his proposition that, “Everybody can be great because everybody can serve.” Dr. King's concept of greatness, when expressed through acts of service, offers everyone an opportunity to experience a sense of worth and dignity. His example encourages all ages, races, colors, ethnic groups, genders, nationalities, and abilities to respond to those in need. We are challenged to adopt his philosophy in addressing the evils of discrimination, poverty and violence. Dr. King's abiding faith and earnest belief in the “American Dream” is exemplified by his commitment to justice and his willingness to serve unselfishly. His strategies and determination to use non-violence as a means to transform the hearts of millions should be used as a rousing force to encourage others in their desire to be socially responsible through non-violent direct actions—direct service. You should consider service opportunities for this program that foster cooperation and understanding among racial and ethnic groups, nonviolent conflict resolution, equal economic and educational opportunities, and social justice.

Respond to one or more of the goals of the Presidents' Summit and include young people as service providers, not just recipients of service means that service projects should be designed to help achieve the five basic promises for all children and youth declared at the Presidents' Summit for America's Future and carried forward by America's Promise—the Alliance for Youth, the organization led by General Colin Powell to pursue the Summit's goals. Those five “promises” for young people are: an ongoing relationship with a caring adult—mentor, tutor, coach; safe spaces and structured activities during non-school hours; a healthy start; an effective education that equips with marketable skills; and an opportunity to give back to their communities through their own service. Particularly important is the fifth goal: to challenge and inspire young people to give at least one hundred hours of service a year. All young people must see themselves—and be seen by others—as resources and leaders, not just as problems or victims. Therefore, you should include young people as service providers and resources in project planning, not just as the recipients of service.

Begin or occur in significant part on the federal legal holiday means that a significant portion of the community service activities supported by the grant should occur on the holiday itself to strengthen the link between the observance of Martin Luther King, Jr.'s birthday, the federal legal holiday (January 15, 2001), and service that reflects his life and teaching.

The direct service you will do on and in connection with the King holiday may include, but is not limited to, the following types of activities: tutoring children or adults, feeding the hungry, packing lunches, delivering meals, stocking a food or clothing pantry, repairing a school and adding to its resources, translating books and documents into other languages, recording books for the visually impaired, restoring a public space, organizing a blood drive, registering bone marrow and organ donors, renovating low-income or senior housing, building a playground, removing graffiti and painting a mural, renovating or creating safe spaces for children who are out of school and whose parents are working, collecting oral histories of elders, running health fairs that provide health screenings, immunizations and health insurance information, gleaning and distributing fruits and vegetables, etc.

Although celebrations, parades, and recognition ceremonies may be a part of the activities that you plan on the holiday and lead to or celebrate a commitment to service, these activities do not constitute direct service under this grant and the grant will not fund such activities.

Other service outcomes we will consider in grant applications include, but are not limited to, the following: a day-of-service you design to produce a sustained long-term service commitment; community-wide servathons that bring a broad cross-section of people together in a burst of energy on one day of service, including schools or school districts that seek to involve all students and teachers in joint service; service-learning projects that link student service in schools and universities with community-based organizations; faith-based service collaborations that bring together communities of faith and secular human service programs (subject to the limitations listed below); and service projects that include a pledge or commitment for continued service throughout the year.

Grant funding will be available on a one-time, non-renewable basis for a budget period not to exceed seven months, beginning no sooner than November 1, 2000 and ending no later than June 30, 2001. By statute, the grants we provide for this program, together with all other federal funds you use to plan or carry out the service opportunity, may not exceed 30 percent of the total cost.

For example, if you request $3,500 in federal dollars you must have a non-federal match of at least $8,167 (cash and/or in-kind contributions) and a total projected cost of at least $11,667. If you request $10,000 in federal dollars you must have a non-federal match of at least $23,333 (cash and/or in-kind contributions) and a total projected cost of at least $33,333. In other words the total project cost multiplied by .30 is the maximum amount of money you can request from the federal government. (Total project cost minus federal dollars requested equals the required match). It may assist in the calculation to apply the formula as follows:

Total Project Cost × .30 = Maximum Federal Contribution

Total Project Cost − Federal Dollars Requested = Non-Federal Match.

The non-federal match may include cash and in-kind contributions (including, but not limited to, supplies, staff time, trainers, food, transportation, facilities, equipment, and services) necessary to plan and carry out the service opportunity. Grants under this program constitute federal assistance and therefore may not be used primarily to inhibit or advance religion in a material way. You may not use any part of an award from the Corporation to fund religious instruction, worship or proselytization. You may not use any part of an award to pay honoraria or fees for speakers. You may not use any part of an award to support a celebration banquet or other activity that is not connected to the actual service.

The total amount of grant funds we will provide under this Notice will depend on the quality of applications and the availability of appropriated funds for this purpose.

Eligible Applicants

By law, any entity otherwise eligible for assistance under the national service laws is eligible to receive a grant under this announcement. The applicable laws include the National and Community Service Act of 1990, as amended, and the Domestic Volunteer Service Act of 1973, as amended.

Eligible applicants include, but are not limited to: nonprofit organizations, state commissions on service, volunteer centers, institutions of higher education, local education agencies, educational institutions, local or state governments, and private organizations that intend to utilize volunteers in carrying out the purposes of this program.

We especially invite applications from organizations with experience in—and commitment to—fostering service on Martin Luther King, Jr. Day, including state and local Martin Luther King, Jr. Commissions, local education agencies, faith-based partnerships, Volunteer Centers of the Points of Light Foundation, and United Ways and other community-based agencies.

Any grant recipient from the 1997, 1998, 1999, and 2000 Martin Luther King, Jr., Day of Service Initiatives will be ineligible if it has been non-compliant with the terms of those grant awards.

Pursuant to the Lobbying Disclosure Act of 1995, an organization described in section 501(c)(4) of the Internal Revenue Code of 1986, 26 U.S.C. 501(c)(4), which engages in lobbying activities, is not eligible.

Overview of Application Requirements

Applicants should submit the following standard components for federal grants:

1. An Application for Federal Assistance, Standard Form 424.

2. A Project Narrative describing:

a. the types of service activities (that lead to measurable outcomes) that you plan in observance of Martin Luther King, Jr. Day, which must take place significantly on the legal federal holiday (January 15, 2001), but which may extend for the budget period (November 1, 2000 through June 30, 2001);

b. partnerships in the local community, city, state or region that you are engaging in support of the service activities;

c. your organization's background and capacity to carry out this program; and

d. how you propose to staff the activity.

The project narrative portion of the application may be no longer than 7 single-sided pages for applications not to exceed $3,500 and 15 single-sided pages for applications not to exceed $10,000. You must type double-spaced in a font no smaller than 12 point and number each page.

3. A Budget Narrative (specific instructions are provided in the application materials).

4. Budget Information—Non-Construction Programs (SF 424A) form in the application package.

5. A signed Assurances—Non-Construction Programs (SF 424B) form incorporating conditions attendant to the receipt of federal funding.

6. Three complete copies (one signed original and two copies) of the application.

We must receive all applications by 5:00 p.m. local time, September 15, 2000 at the Corporation office in your state, unless otherwise noted, addressed as follows:

Martin Luther King, Jr. Day of Service

Corporation for National Service

(Appropriate state office address; see list of addresses provided below).

You may not submit an application by facsimile.

To ensure fairness to all applicants, we reserve the right to take action, up to and including disqualification, in the event that your application fails to comply with the requirements relating to page limits, line-spacing, font size, and application deadlines.

Budget

Detailed instructions about the budget information you must provide are in the application materials.

Selection Process and Criteria

We will review the applications initially to confirm that you are an eligible recipient and to ensure that your application contains the information we require and otherwise complies with the requirements of this notice. We will assess the quality of applications' responsiveness to the objectives included in this announcement based on the following criteria listed below:

1. Program Design (60%) The proposal must demonstrate your ability to get necessary things done, strengthen communities, reflect the life and teaching of Martin Luther King Jr., respond to one or more of the goals set forth at the Presidents' Summit for America's Future and include young people as service providers, not just recipients of service, and begin or occur in significant part on the federal legal holiday, January 15, 2001.

2. Organizational Capacity (25%) Your application must demonstrate your organization's ability to carry out the activities described in the proposal, including the use of highly qualified staff.

3. Budget/Cost Effectiveness (15%) You must demonstrate how you will use this grant effectively, including the sources and uses of matching support.

After evaluating the overall quality of proposals and their responsiveness to the criteria noted above, we will seek to ensure that applications we select represent a portfolio that is: (1) Geographically diverse, including projects throughout the five geographical clusters as designated by the Corporation; (2) representative of different population tracts, i.e. rural, urban, suburban; (3) representative of a range of models of service projects.

Awards

We anticipate making selections under this announcement no later than November 1, 2000.

Corporation for National Service State Offices

AK

John Miller, Jackson Federal Bldg., Suite 3190, 915 Second Ave., Seattle, WA 98174-1103, Phone: (206) 220-7745 Fax: (206) 553-4415

AL

Nancy Reeder, Medical Forum, 950 22nd St., N., Suite 428, Birmingham, AL 35203, Phone: (205) 731-0027 Fax: (205) 731-0031

AR

Opal Sims, Federal Building, Room 2506, 700 West Capitol Street, Little Rock, AR 72201, Phone: (501) 324-5234 Fax: (501) 324-6949

AZ

Richard Persely, 522 North Central, Room 205A, Phoenix, AZ 80504-2190, Phone: (602) 379-4825 Fax: (602) 379-4030

CA

Javier LaFianza, 11150 W. Olympic Blvd., Suite 670, Los Angeles, CA 90064, Phone: (310) 235-7421 Fax: (310) 235-7422

CO

James Byrnes, 999 Eighteenth Street, Suite 1440 South, Denver, CO 80202, Phone: (303) 312-7952 Fax: (303) 312-7954

CT

Romero Cherry, 1 Commercial Plaza, 21st Floor, Hartford, CT 06103-3510, Phone: (860) 240-3237 Fax: (860) 240-3238

DC

Thomas Harmon, 400 North 8th Street, Suite 446, P.O. Box 10066, Richmond, VA 23240-1832, Phone: (804) 771-2197 Fax: (804) 771-2157

DE

Jerry Yates, Fallon Federal Bldg., 31 Hopkins Plaza, Suite 400-B, Baltimore, MD 21201, Phone: (410) 962-4443 Fax: (410) 962-3201

FL

Warren Smith, 3165 McCrory Street, Suite 115, Orlando, FL 32803-3750, Phone: (407) 648-6117 Fax: (407) 648-6116

GA

Daryl James, 75 Piedmont Avenue, N.E., Room 902, Atlanta, GA 30303-2587, Phone: (404) 331-4646 Fax: (404) 331-2898

HI

Lynn Dunn, 300 Ala Moana Blvd., Room 6213, Honolulu, HI 96850-0001, Phone: (808) 541-2832 Fax: (808) 541-3603

IA

Joel Weinstein, Federal Building, Room 917, 210 Walnut Street, DeMoines, IA 50309-2195, Phone: (515) 284-4816 Fax: (515) 284-6640

ID

V. Kent Griffitts, 304 North 8th Street, Room 344, Boise, ID 83702-5835, Phone: (208) 334-1707 Fax: (208) 334-1421

IL

Timothy Krieger, 77 West Jackson Boulevard, Suite 442, Chicago, IL 60604-3511, Phone: (312) 353-3622 Fax: (312) 353-5343

IN

Thomas Haskett, 46 East Ohio Street, Room 457, Indianapolis, IN 46204-1922, Phone: (317) 226-6724 Fax: (317) 226-5437

KS

James Byrnes, 444 S.E. Quincy, Room 260, Topeka, KS 66683-3572, Phone: (785) 295-2540 Fax: (785) 295-2596

KY

Betsy Wells, 600 Martin L. King Place, Room 372-D, Louisville, KY 40202-2230, Phone: (502) 582-6384 Fax: (502) 582-6386

LA

Willard Labrie, 707 Florida Street, Suite 316, Baton Rouge, LA 70801, Phone: (225) 389-0473 Fax: (225) 389-0510

MA

Malcolm Coles, 10 Causeway Street, Room 473, Boston, MA 02222-1038, Phone: (617) 565-7001 Fax: (617) 565-7011

MD

Jerry Yates, Fallon Federal Bldg., 31 Hopkins Plaza, Suite 400-B, Baltimore, MD 21201, Phone: (410) 962-4443 Fax: (410) 962-3201

ME

Malcolm Coles, 1 Pillsbury Street, Suite 201, Concord, NH 03301-3556, Phone: (603) 225-1450 Fax: (603) 225-1459

MI

Mary Pfeiler, 211 West Fort Street, Suite 1408, Detroit, MI 48226-2799, Phone: (313) 226-7848 Fax: (313) 226-2557

MN

Robert Jackson, 431 South 7th Street, Room 2480, Minneapolis, MN 55415-1854, Phone: (612) 334-4083 Fax: (612) 334-4084

MO

John McDonald, 801 Walnut Street, Suite 504, Kansas City, MO 64106-2009, Phone: (816) 374-6300 Fax: (816) 374-6305

MS

R. Abdul-Azeez, 100 West Capitol Street, Room 1005A, Jackson, MS 39269-1092, Phone: (601) 965-5664 Fax: (601) 965-4671

MT

John Allen, 208 North Montana Avenue, Suite 206, Helena, MT 59601-3837, Phone: (406) 449-5404 Fax: (406) 449-5412

NC

Robert Winston, 300 Fayetteville Street Mall, Room 131,

Raleigh, NC 27601-1739, Phone: (919) 856-4731 Fax: (919) 856-4738

ND

John Pohlman, 225 S. Pierre Street, Room 225, Pierre, SD 57501-2452, Phone: (605) 224-5996 Fax: (605) 224-9201

NE

Anne Johnson, Federal Building, Room 156, 100 Centennial Mall North, Lincoln, NE 68508-3896, Phone: (402) 437-5493 Fax: (402) 437-5495

NH

Malcolm Coles, 1 Pillsbury Street, Suite 201, Concord, NH 03301-3556, Phone: (603) 225-1450 Fax: (603) 225-1459

NJ

Stanley Gorland, 44 South Clinton Ave., Room 702, Trenton, NJ 08609-1507, Phone: (609) 989-2243 Fax: (609) 989-2304

NM

Ernesto Ramos, 120 S. Federal Place, Room 315, Sante Fe, NM 87501-2026, Phone: (505) 988-6577 Fax: (505) 988-6661

NV

Craig Warner, 4600 Kietzke Lane, Suite E-141, Reno, NV 89502-5033, Phone: (775) 784-5314 Fax: (775) 784-5026

NY

Donna Smith, Clinton Ave. & Pearl St., Room 818, Albany, NY 12207, Phone: (518) 431-4150 Fax: (518) 431-4154

OH

Paul Schrader, 51 North High Street, Suite 451, Columbus, OH 43215, Phone: (614) 469-7441 Fax: (614) 469-2125

OK

Zeke Rodriguez, 215 Dean A. McGee, Suite 324, Oklahoma City, OK 73102, Phone: (405) 231-5201 Fax: (405) 231-4329

OR

Robin Sutherland, 2010 Lloyd Center, Portland, OR 97232, Phone: (503) 231-2103 Fax: (503) 231-2106

PA

Jorina Ahmed, Robert N.C. Nix Federal Bldg., 900 Market St., Suite 229, Philadelphia, PA 19107, Phone: (215) 597-2806 Fax: (215) 597-2807

PR

Loretta Cordova, 150 Carlos Chardon Ave., Suite 662, San Juan, PR 00918-1737, Phone: (787) 766-5314 Fax: (787) 766-5189

RI

Vincent Marzullo, 400 Westminster Street, Room 203, Providence, RI 02903, Phone: (401) 528-5426 Fax: (401) 528-5220

SC

Jerome Davis, 1835 Assembly Street, Suite 872, Columbia, SC 29201-2430, Phone: (803) 765-5771 Fax: (803) 765-5777

SD

John Pohlman, 225 S. Pierre Street, Room 225, Pierre, SD 57501-2452, Phone: (605) 224-5996 Fax: (605) 224-9201

TN

Jerry Herman, 265 Cumberland Bend Drive, Nashville, TN 37228, Phone: (615) 736-5561 Fax: (615) 736-7937

TX

Jerry Thompson, 903 San Jacinto, Suite 130, Austin, TX 78701-3747, Phone: (512) 916-5671 Fax: (512) 916-5806

UT

Rick Crawford, 350 S. Main Street, Room 504, Salt Lake City, UT 84101-2198, Phone: (801) 524-5411 Fax: (801) 524-3599

VA

Thomas Harmon 400 North 8th Street, Suite 446, P. O. Box 10066, Richmond, VA 23240-1832, Phone: (804) 771-2197 Fax: (804) 771-2157

VI

Loretta Cordova 150 Carlos Chardon Ave., Suite 662, San Juan, PR 00918-1737, Phone: (787) 766-5314 Fax: (787) 766-5189

VT

Malcolm Coles 10 Causeway Street, Room 473, Boston, MA 02222-1038, Phone: (617) 565-7001 Fax: (617) 565-7011

WA

John Miller, Jackson Federal Bldg., Suite 3190, 915 Second Ave., Seattle, WA 98174-1103, Phone: (206) 220-7745 Fax: (206) 553-4415

WI

Linda Sunde, 310 W. Wisconsin Ave., Room 1240, Milwaukee, WI 53203-2211, Phone: (414) 297-1118 Fax: (414) 297-1863

WV

Judith Russell, 10 Hale Street, Suite 203, Charleston, WV 25301-1409, Phone: (304) 347-5246 Fax: (304) 347-5464

WY

Patrick Gallizzi, Federal Building, Room 1110, 2120 Capitol Avenue, Cheyenne, WY 82001-3649, Phone: (307) 772-2385 Fax: (307) 772-2389

Dated: July 25, 2000
Gary Kowalczyk,
Coordinator of National Service Programs, Corporation for National and Community Service.

[FR Doc. 00-19288 Filed 7-31-00; 8:45 am]

BILLING CODE 6050-28-U